DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee Working Group and Stakeholder Meeting

September 25, 2012 (9:00am-3:00pm)

This meeting will be held at the Pan American Life Center, 601 Poydras Street, New Orleans, LA 70130.

The discussions may address matters at issue in the following proceedings:

Docket No. OA07-32, Entergy Services, Inc.

Docket No. EL00-66, Louisiana Public Service Commission v. Entergy Services, Inc.

Docket No. EL01-88, Louisiana Public Service Commission v. Entergy Services, Inc.

Docket No. EL07-52, Louisiana Public Service Commission v. Entergy Services, Inc.

Docket No. EL08-60, Ameren Services Co. v. Entergy Services, Inc.

Docket No. EL09-43, Arkansas Public Service Commission v. Entergy Services, Inc.

Docket No. EL09-50, Louisiana Public Service Commission v. Entergy Services, Inc.

Docket No. EL09-61, Louisiana Public Service Commission v. Entergy Services, Inc.

Docket No. EL10-55, Louisiana Public Service Commission v. Entergy Services, Inc.

Docket No. EL10-65, Louisiana Public Service Commission v. Entergy Services, Inc.

Docket No. EL11-34, Midwest Independent System Transmission Operator, Inc.

Docket No. EL11-63, Louisiana Public Service Commission v. Entergy Services, Inc.

Docket No. ER05-1065, Entergy Services, Inc.

Docket No. ER07-682, Entergy Services, Inc.

Docket No. ER07-956, Entergy Services, Inc.

Docket No. ER08-1056, Entergy Services, Inc.

Docket No. ER09-833, Entergy Services, Inc.

Docket No. ER09-1224, Entergy Services, Inc.

Docket No. ER10-794, Entergy Services, Inc.

Docket No. ER10-1350, Entergy Services, Inc.

Docket No. ER10-1676, Entergy Services, Inc.

Docket No. ER10-2001, Entergy Arkansas, Inc.

Docket No. ER10-3357, Entergy Arkansas, Inc.

Docket No. ER11-2131, Entergy Arkansas, Inc.

Docket No. ER11-2132, Entergy Gulf States, Louisiana, LLC

Docket No. ER11-2133, Entergy Gulf States, Louisiana, LLC

Docket No. ER11-2134, Entergy Mississippi, Inc.

Docket No. ER11-2135, Entergy New Orleans, Inc.

Docket No. ER11-2136, Entergy Texas, Inc.

Docket No. ER11-3156, Entergy Arkansas, Inc.

Docket No. ER11-3657, Entergy Arkansas, Inc.

Docket No. ER12-480, Midwest Independent Transmission System Operator, Inc.

Docket No. ER12-2390, Entergy Services, Inc.

These meetings are open to the public.

For more information, contact Patrick Clarey, Office of Energy Market Regulation, Federal Energy Regulatory Commission at (317) 249-5937 or patrick.clarey@ferc.gov.

Dated: September 14, 2012.
Kimberly D. Bose,
Secretary.

[FR Doc. 2012-23223 Filed 9-19-12; 8:45 am]

BILLING CODE 6717-01-P